NUCLEAR REGULATORY COMMISSION

10 CFR Parts 15, 170, and 171

[NRC-2018-0292]

RIN 3150-AK24

Revision of Fee Schedules; Fee Recovery for Fiscal Year 2021

AGENCY: Nuclear Regulatory Commission.

ACTION: Final rule; delay of effective date.

SUMMARY: On June 16, 2021, the U.S. Nuclear Regulatory Commission (NRC) published a final rule that amends its regulations pertaining to user fees and annual fees charged to its applicants and licensees. These amendments are necessary to implement the Nuclear Energy Innovation and Modernization Act, which, beginning with fiscal year 2021, requires the NRC to recover, to the maximum extent practicable, approximately 100 percent of its annual budget less certain amounts excluded from this fee recovery requirement. In addition, the final rule also included improvements associated with fee invoicing to implement provisions of NEIMA. The final rule had an original effective date of August 16, 2021. This document delays the effective date of the final rule to August 20, 2021, to ensure that the rule has the 60-day delayed effective date required by the Congressional Review Act.

DATES: As of August 13, 2021, the effective date of the rule amending 10 CFR parts 15, 170, and 171 published at 86 FR 32146, June 16, 2021, is delayed until August 20, 2021.

ADDRESSES: Please refer to Docket ID NRC-2018-0292 when contacting the NRC about the availability of information for this action. You may obtain publicly-available information related to this action by any of the following methods:

• Federal Rulemaking Website: Go to https://www.regulations.gov and search for Docket ID NRC-2018-0292. Address questions about NRC dockets to Dawn Forder; telephone: 301-415-3407; email: Dawn.Forder@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Jo A. Jacobs, Office of the Chief Financial Officer, U.S. Nuclear Regulatory Commission, Washington, DC 20555-0001; telephone: 301-415-8388, email: Jo.Jacobs@nrc.gov.

SUPPLEMENTARY INFORMATION: On June 16, 2021 (86 FR 32146), the NRC published a final rule that amends the licensing, inspection, special project, and annual fees charged to its applicants and licensees. These amendments are necessary to implement the Nuclear Energy Innovation and Modernization Act (NEIMA), which, beginning with fiscal year (FY) 2021, requires the NRC to recover, to the maximum extent practicable, approximately 100 percent of its annual budget less certain amounts excluded from this fee recovery requirement. In addition, the final rule also included improvements associated with fee invoicing to implement provisions of NEIMA.

The FY 2021 final fee rule had an original effective date of August 16, 2021, which is 60 days after the date of publication in the Federal Register. The Congressional Review Act (CRA) requires a 60-day delay in the effective date of any rule determined to be a “major” rule ¹ by the Office of Management and Budget (OMB). The OMB determined the FY 2021 final fee rule to be a major rule under the CRA. The 60-day delay in effective date begins with the date of publication in the Federal Register or the date of congressional notification, whichever is later. Publication of the FY 2021 final fee rule occurred on Wednesday, June 16, 2021, and congressional notification occurred on Thursday, June 17, 2021; however, due to the Federal observance of the Juneteenth national holiday on Friday, June 18, 2021, and the weekend, the congressional notification was not formally recorded until Monday, June 21, 2021, a delay of four days. Therefore, to ensure that the rule has the 60-day delayed effective date required by the CRA, this document delays the effective date of the FY 2021 final fee rule until August 20, 2021.

¹ Under the CRA, a “major” rule is defined as a rule that OMB determines has resulted in or is likely to result in (1) an annual effect on the economy of $100 million or more; (2) a major increase in costs for consumers, individual industries, Federal, State, or local government agencies, or geographical regions; or (3) a significant adverse effect on competition, employment, investment, productivity, innovation, or on the ability of U.S.-based enterprises to compete with foreign-based enterprises in domestic and export markets.

Dated: August 10, 2021.
For the Nuclear Regulatory Commission.
Cherish K. Johnson,
Chief Financial Officer.

[FR Doc. 2021-17399 Filed 8-12-21; 8:45 am]

BILLING CODE 7590-01-P